DEPARTMENT OF AGRICULTURE

Submission for OMB Review; Comment Request

August 5, 2019.

The Department of Agriculture will submit the following information collection requirement(s) to OMB for review and clearance under the Paperwork Reduction Act of 1995, Public Law 104-13 on or after the date of publication of this notice. Comments are requested regarding: (1) Whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, Washington, DC; 725 17th Street NW, Washington, DC 20503. Commenters are encouraged to submit their comments to OMB via email to: OIRA_Submission@omb.eop.gov or fax (202) 395-5806 and to Departmental Clearance Office, USDA, OCIO, Mail Stop 7602, Washington, DC 20250-7602.

Comments regarding these information collections are best assured of having their full effect if received by September 9, 2019. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

National Agricultural Statistics Service (NASS)

Title: Agricultural Surveys Program—January Sheep Survey—Substantive Change.

OMB Control Number: 0535-0213.

Summary of Collection: General authority for these data collection activities is granted under U.S. Code Title 7, Section 2204 which specifies that “The Secretary of Agriculture shall procure and preserve all information concerning agriculture which he can obtain . . . by the collection of statistics . . .”. The primary objective of the National Agricultural Statistics Service (NASS) is to provide data users with timely and reliable agricultural production and economic statistics, as well as environmental and specialty agricultural related statistics. To accomplish this objective, NASS relies on the use of diverse surveys that show changes within the farming industry over time.

Using the Sheep and Goat Report—January 1, 2019, NASS collects sheep and goat inventory numbers, lamb and kid births, wool production and prices, death losses, and periodically NASS collects information on inventory losses due to predators. In January 2020 NASS would like to add additional questions to the predator loss section of the questionnaire. This is being done in response to a request by the Animal, Plant Health Inspection Service (APHIS). The majority of the questions that will be added to the January 2020 questionnaire are included in the Master Questionnaire that was included in the original docket that was submitted to OMB for approval in April 2017. In addition there will be a couple of questions that were approved in the previous docket (Oct. 2014) relating to nonlethal predator control methods used on sheep farms. The few new questions that will be added to the survey relate to the movement of sheep from the farm, the use of identification tags on the sheep, the use of government trappers used to control predators and if the operation quit raising sheep, what was the reason.

This substantive change resulted in an overall increase in response burden of approximately 2,800 hours or about 10 minutes per completed questionnaire. The sample size will remain the same.

Need and Use of the Information: In order for APHIS to be able to measure the effectiveness of previous measures used to curtail sheep and lamb losses due to predators and to determine the need for changes to future measures these additional questions need to be asked.

The additional questions that will be added to the questionnaires will address the following topics:

• Nonlethal predator control methods used on sheep farms,

• the movement of sheep from the farm,

• the use of identification tags on the sheep,

• the use of government trappers used to control predators and

• if the operation quit raising sheep, what was the reason.

Description of Respondents: Farms.

Number of Respondents: 24,000.

Frequency of Responses: Reporting: Once.

Total Burden Hours: 8,640.

Kimble Brown,
Departmental Information Collection Clearance Officer.

[FR Doc. 2019-17030 Filed 8-8-19; 8:45 am]

BILLING CODE 3410-20-P